DEPARTMENT OF THE INTERIOR

National Park Service

Final General Management Plan and Environmental Impact Statement, Governors Island National Monument, New York, NY

AGENCY: National Park Service, Department of the Interior.

ACTION: Notice of availability of a Record of Decision on the Final General Management Plan and Environmental Impact Statement for Governors Island National Monument.

SUMMARY: Pursuant to § 102(2)(C) of the National Environmental Policy Act of 1969, as amended, the National Park Service (NPS) announces the availability of the Record of Decision for the Final General Management Plan and Environmental Impact Statement (GMP/EIS) for Governors Island National Monument, New York. On June 1, 2009, the Regional Director, Northeast Region, approved the Record of Decision for the GMP/EIS, selecting Alternative D, The Harbor Center, which was described as the preferred alternative in the Final GMP/EIS issued on April 26, 2009. As soon as practicable, the NPS will begin to implement the selected alternative. The National Monument will be developed as a Harbor Center with partners as a hub of activities and a jumping-off point for visitors exploring New York Harbor. This course of action and three other alternatives were presented and analyzed in the Draft and Final Environmental Impact Statements. The full range of foreseeable environmental consequences was assessed, and appropriate mitigating measures were identified.

Copies of the Record of Decision may be obtained from the contact listed below or online at the NPS Planning, Environment and Public Comment (PEPC) Web site (http://parkplanning.nps.gov/gois).

FOR FURTHER INFORMATION CONTACT: Patti Reilly, Superintendent, Governors Island National Monument, Battery Maritime Building, Slip 7, 10 South Street, New York, NY 10004, 212-825-3040.

SUPPLEMENTARY INFORMATION: The NPS selected alternative develops Governors Island National Monument as the Harbor Center—a hub of activities and jumping-off point for visitors wanting to explore New York Harbor.

Working with other harbor-related organizations—national parks and local, regional, national and international civic, educational and research organizations—the NPS would develop a range of activities in Fort Jay and Castle Williams that interpret the key themes of the island and greater harbor. The park would collaborate and coordinate on harbor-related programs on and off Governors Island that would help visitors understand the forts' military significance, the island's strategic location, and the ongoing ecological conservation efforts for the harbor and the re-visioning and redevelopment of the waterfront.

Governors Island National Monument would become a primary stop on harbor ferry tours. Programs would include specialized boat tours of the harbor, educational programs that explore the harbor's history and ecology.

A variety of programs, exhibits, and special events would be available in both forts. These activities would use the harbor to describe the island's history and significance, and the interplay over time between the harbor and the city's health and economy.

Fort Jay would house harbor research, offices and temporary lodging for NPS sponsored fellowship and residency programs; and be the setting for harbor related seminars and workshops.

Castle Williams would be the island's main exhibit and interpretive center, showcasing multimedia programs and interactive exhibits that explore local, national, and global topics associated with Governors Island and New York Harbor.

The selected alternative would seek to accomplish the following broad goals:

• Preserve the National Monument's historic resources for the enjoyment of present and future generations. Management would make historic preservation of Fort Jay and Castle Williams its highest priority.

• Offer visitors multiple and varied opportunities to explore and understand the National Monument. Public access to the National Monument would be convenient and affordable. Dock 102 would have a new contact station which would serve as an information and orientation center; Building 140 would continue to be another welcoming center with a bookstore.

• Operate the National Monument as part of the larger island. The NPS would cooperate with organizations, including Governor's Island Education and Preservation Corporation (GIPEC), to make Governors Island an educational and civic resource of special historic character, and a recreational and open-space resource for the people of New York and the United States.

The combination of preservation and programming activities would make the National Monument a major New York City and Harbor attraction, drawing local visitors back repeatedly and drawing national and international audiences.

The planning team has completed the evaluation and found that an adjustment to include the remainder of the glacis (approximately 10 acres) would meet the official criteria and would be justifiable under certain circumstances.

In addition to the selected alternative, three other alternatives, including a no-action alternative, were presented and analyzed in the Draft and Final Environmental Impact Statements. To help guide and structure the formulation and analysis of the alternatives, a set of criteria and goals were established by the planning team; each alternative had to meet these goals in its own way:

Resource Preservation Goals

• The uses of Fort Jay, Castle Williams, and other resources managed by the NPS are compatible with the purpose and significance of the National Monument.

• The island's other important resources and values that provide the context and add to the significance to the National Monument, including archeological resources, historic structures, and cultural landscapes, are preserved.

Visitor Experience Goals

• Visitors are well oriented, comfortable and safe throughout their trip, including time at off-island departure points, on ferries, and while visiting the National Monument.

• A variety of communications tools convey necessary information to visitors before, during, and after their visit, about the National Monument's resources and programs, and opportunities to enjoy other NPS sites in the New York region.

• Visitors understand the history of the island and the people who lived and worked there, and appreciate the island's place in the history of New York Harbor and the nation.

• Regular feedback from visitors enables National Monument staff to improve and enhance public programming and services.

• Facilities and services within the National Monument and on the greater island meet visitors' basic needs and enrich the overall experience, drawing visitors back to the island.

Transportation Goals

• Access to the National Monument is convenient, reliable, and available to visitors at a reasonable cost. Access is coordinated with the extensive public transportation network of the New York metropolitan area.

• Ferries and on-island transportation systems employ sustainable technologies and are accessible to all National Monument visitors, staff, and contractors. When feasible, on-island transportation systems are shared and coordinated with other island organizations.

Park Administration Goals

• Administrative, interpretive, maintenance, and other staff, as well as facilities and other infrastructure, sustain the programs and operations of the National Monument and accomplish the NPS mission.

• National Monument staff enjoy healthy and safe working conditions.

Collaboration and Partnership Goal

• Formal partnerships and informal associations with other agencies and organizations assist with the preservation and public enjoyment of the National Monument. These partnerships and other collaborative projects support the NPS and National Monument missions.

After careful consideration and review of the purpose and significance of Governors Island National Monument and its establishing Presidential Proclamations, other laws and policies including the Organic Act, National Environmental Policy Act, National Historic Preservation Act and the 2006 NPS Management Policies, and input received from the public during the planning process, Alternative D was chosen by NPS as the alternative to be implemented. Compared to all the alternatives considered, the selected alternative best fulfills the mandates of the Presidential Proclamations, the purpose and significance, and the other laws and policies guiding the NPS and the Monument. By partnering with others to help protect, interpret and educate visitors about the Monument, the island and New York Harbor, the Monument's long-term future, viability and relevance is assured.

The selected alternative best protects park resources while also providing high-quality visitor experiences including effective educational and interpretive programs focused on Governors Island National Monument's purpose, significance and goals. Implementation of the selected alternative will not result in the impairment of park resources and values. Provisions in the selected alternative are incorporated to protect and enhance the park's cultural and natural resources, and provide for high-quality visitor experiences. Negative impacts are minor or moderate in intensity. Overall, the selected alternative will have beneficial effects on cultural and natural resources, the visitor experience and park operations.

The Record of Decision includes a statement of the decision made, synopses of other alternatives considered, the basis for the decision, a description of the environmentally preferable alternative, a finding on impairment of park resources and values, a list of measures to minimize environmental harm, and an overview of public involvement in the decision-making process. This decision is the result of a public planning process that began in 2003. Between 2003 and 2007, prior to the release of the Draft GMP/EIS, NPS staff met with and briefed representatives from numerous agencies and organizations about the GMP and NPS's future plans on Governors Island. Additional public involvement activities followed the release of the Draft GMP/EIS and a detailed analysis of public comment with NPS responses was provided in the Final GMP/EIS. The official responsible for this decision is the NPS Regional Director, Northeast Region.

Dated: June 11, 2009.
Dennis R. Reidenbach,
Regional Director, Northeast Region, National Park Service.

[FR Doc. E9-17376 Filed 7-21-09; 8:45 am]

BILLING CODE 4312-14-P